DEPARTMENT OF HEALTH AND HUMAN SERVICES

Centers for Disease Control and Prevention

Strengthening Prevention, Control and Treatment Activities for HIV/AIDS, Tuberculosis and Sexually Transmitted Infection in the Amhara Region of Northwest Ethiopia, as Part of the President's Emergency Plan for AIDS Relief

Announcement Type: New.

Funding Opportunity Number: AA135.

Catalog of Federal Domestic Assistance Number: 93.067.

Key Dates: Application deadline: September 19, 2005.

I. Funding Opportunity Description

Authority: This program is authorized under Sections 301(a) and 307 of the Public Health Service Act [42 U.S.C. 241 and 242l], as amended, and under Public Law 108-25 (United States Leadership Against HIV/AIDS, Tuberculosis and Malaria Act of 2003) [U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Over the same time period, as part of a collective national response, the Emergency Plan goals specific to Ethiopia are to treat at least 210,000 HIV-infected individuals and care for 1,050,000 HIV-affected individuals, including orphans.

Purpose: The purpose of this funding announcement is to progressively build an indigenous, sustainable response to the national HIV epidemic in Ethiopia through the rapid expansion of innovative, culturally appropriate, high-quality HIV/AIDS prevention and care interventions, and improved linkages to HIV counseling and testing and HIV treatment by targeting underserved populations in Ethiopia. Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

As one of the key agencies that implement the Emergency Plan, HHS works in a collaborative manner with national governments and other agencies to develop programs of assistance to address the HIV/AIDS epidemic in target countries, including Ethiopia. In particular, HHS' mission in Ethiopia is to work with Ethiopian and international partners to develop and apply effective interventions to prevent HIV infection and associated illnesses and death from AIDS.

Ethiopia is among the countries most adversely affected by the HIV/AIDS epidemic and TB. STIs are highly prevalent in Ethiopia and contribute to morbidity and mortality from HIV/AIDS. Ethiopia has one of the largest populations of HIV-infected persons in the world. By the end of 2003 an estimated 1.5 million adults in Ethiopia were HIV-positive. The estimated percentage of Ethiopians age 15 to 49 infected with HIV is 4.4 percent, and there have been over a million cumulative deaths from AIDS. In Ethiopia approximately 200,000 children are currently living with HIV, and AIDS has orphaned over 500,000 children.

Given the complex nature of the HIV/AIDS epidemic in Ethiopia, forging a strong multi-sectoral and multi-level partnership with broad stakeholder involvement is imperative. The Government of Ethiopia has therefore adopted a responsive HIV/AIDS/STI/TB program, and its implementation mechanisms have been in place since 1998. Ethiopia is currently taking measures to accelerate the implementation of interventions that deliver comprehensive care to decrease illness and death, promote acceptance of HIV counseling and confidential voluntary testing, and strengthen local health care capacity. Health care facilities that are already in the frontlines of the fight against HIV/AIDS/STI/TB are scaling up prevention, care, support, and treatment across the country, with significant assistance from the President's Emergency Plan for AIDS Relief.

A shortage of trained care providers and lack of adequate technical support, and scientific evidence to guide policy and program decisions are major challenges. The complexity of the response to HIV/AIDS/STI/TB necessitates strong technical support to national and regional programs. Scaling up training at in-service and pre-service levels, targeted monitoring and evaluations, and linkages to national and international partners are all needed. These program needs in Northwest Ethiopia are best met by universities, their teaching hospitals and catchment health facilities, working in partnership with the Regional Health Bureau, and the Ethiopian Ministry of Health (MOH) and sister institutions in-country and overseas.

The purpose of this project is to strengthen HIV/AIDS/sexually transmitted infection (STI)/tuberculosis (TB) prevention and control efforts in the Amhara region of Northwest Ethiopia. The project will (1) improve HIV/AIDS/STI/TB prevention by using the “ABC strategy” (abstinence, be faithful, and, for populations engaged in high-risk behaviors,¹ correct and consistent condom use),² and control and treatment programs in the Amhara region of Northwest Ethiopia; (2) strengthen training in HIV/AIDS/STI/TB at university-affiliated teaching hospitals in the Amhara region of Northwest Ethiopia and their outreach training facilities; (3) establish a technical support and training unit to assist university-affiliated teaching hospitals HIV/AIDS/STI/TB program implementation within their catchment areas in the Amhara region of Northwest Ethiopia; (4) prevent, control, and treat HIV/AIDS/STI among students and faculty of universities in the Amhara region of Northwest Ethiopia; and (5) develop the health system and infrastructure important for the delivery of HIV/AIDS/STI/TB care at university-affiliated teaching hospitals in the Amhara region of Northwest Ethiopia; (6) implement HIV/AIDS/STI/TB-targeted monitoring and evaluation for these programs.

¹ Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing abstinence and faithfulness behavior-change interventions.

² Prevention interventions directed toward behavior change should promote the ABC model. Methods and strategies should emphasize abstinence for youth and other unmarried persons, mutual faithfulness and partner reduction for sexually active adults, and correct and consistent use of condoms by populations engaged in high-risk behaviors. Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing the abstinence and faithfulness behavior-change interventions outlined above.

This collaborative initiative will change the focus and activities of universities and their teaching hospitals and affiliated health facilities in the Amhara region of Northwest Ethiopia. It will enable these universities to strengthen and improve the quality of care offered at their affiliated hospitals, and improve HIV/AIDS/STI/TB training provided to all cadres of health professionals trained at the universities, its teaching hospital and catchment facilities. It will strengthen the capacity of the university to support in-service training for the Amhara Region and adjoining regions with no institutions of higher education; conduct targeted monitoring and evaluations; assist in development and adaptation into local languages of technical materials for local use; and provide technical support to the regional and national Ethiopian HIV/AIDS/STI/TB programs. It will serve as a demonstration site for other training facilities in the region; and prepare the universities for collaboration with other institutions of higher education in Ethiopia, and for twinning with other institutions overseas, including in the United States.

Measurable outcomes of the program will be in alignment with the numerical goals of the President's Emergency Plan for AIDS Relief and one (or more) of the following performance goal(s) for the National Center for HIV, Sexually Transmitted Diseases and Tuberculosis Prevention (NCHSTP) of the Centers for Disease Control and Prevention (CDC) within HHS: Increase the proportion of HIV-infected people who are linked to appropriate prevention, care and treatment services and to strengthen the capacity nationwide to monitor the epidemic, develop and implement effective HIV prevention interventions and evaluate prevention programs.

This announcement is only for non-research activities supported by HHS, including CDC. If applicants propose research, HHS/CDC will not review the application. For the definition of “research,” please see the HHS/CDC Web site at the following Internet address: http://www.cdc.gov/od/ads/opspo111.htm.

Activities: The recipient of these funds is responsible for activities in multiple program areas designed to target underserved populations in Ethiopia. Either the awardee will implement activities directly or will implement them through its subgrantees and/or subcontractors; the awardee will retain overall financial and programmatic management under the oversight of HHS/CDC and the strategic direction of the Office of the U.S. Global AIDS Coordinator. The awardee must show a measurable, progressive reinforcement of the capacity of indigenous organizations and local communities to respond to the national HIV epidemic, as well as, progress towards the sustainability of activities.

Applications should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in Haiti will review as part of an annual Emergency Plan for AIDS Relief Country Operational Plan review and approval process managed by the Office of the U.S. Global AIDS Coordinator. The grantee may work on some of the activities listed below in the first year and in subsequent years, and then progressively add others from the list to achieve all of the Emergency Plan performance goals, as cited in the previous section.

HHS/CDC, under the guidance of the U.S. Global AIDS Coordinator, will approve funds for activities on an annual basis, based on documented performance towards achieving Emergency Plan goals, as part of the annual Emergency Plan for AIDS Relief Country Operational Plan review and approval process.

Awardee activities for this program are as follows:

1. Conduct needs assessment among the students and faculty at universities and teaching hospitals in the Amhara region of Northwest Ethiopia to determine risk factors, target behaviors, barriers, facilitators, reinforcement mechanisms, communication channels, availability of care, etc. to inform the development of prevention, care and treatment programs.

2. Organize and procure necessary equipment and supplies in a transparent and competitive process; and coordinate interventions, trainings and targeted monitoring and evaluations.

3. Develop/adapt or organize tools, such as operations manuals, training manuals, and guidelines in local languages, in the areas of HIV/AIDS; prevention of mother-to-child transmission (PMTCT); confidential voluntary counseling and testing (VCT); STI; TB; laboratory; and other technical areas, as deemed appropriate, for provision of in-patient and out-patient care; in-service training; and targeted monitoring and evaluations.

4. Institute the needed administrative and functional arrangements to coordinate the day-to-day activities of the project to guarantee effectiveness, efficiency, transparency and accountability.

5. Conduct in-service training activities in local languages related to HIV/AIDS, PMTCT, confidential VCT, STI, TB, laboratory, and other technical areas, as needed at universities and teaching hospitals in the Amhara region of Northwest Ethiopia.

6. Review, update, and institute course outlines and contents for pre-service (undergraduate and post-graduate medical students, nursing students and other paramedical students) training programs in local languages to strengthen the training in HIV/AIDS, PMTCT, confidential VCT, STI, TB, laboratory, and other related technical areas at universities and teaching hospitals in the Amhara region of Northwest Ethiopia.

7. Conduct pre-service training in HIV/AIDS, PMTCT, VCT, STI, TB, laboratory, and other related technical areas in all health professional training programs at universities and teaching hospitals in the Amhara region of Northwest Ethiopia.

8. Conduct targeted monitoring and evaluations of the project in identified priority areas that require evidence for implementation and in-service and pre-service training in collaboration with international partners.

9. Conduct reviews and analysis of data and prepare, and disseminate reports and information.

10. Conduct cultural appropriate workshops, seminars and popularization events in local languages related to HIV/AIDS prevention, control, and treatment in the region; and undertake monitoring and evaluation and planning of the project at universities and teaching hospitals in the Amhara region of Northwest Ethiopia. Grantee many not implement condom social marketing without also implementing abstinence and behavior change interventions.

11. Conduct HIV/AIDS/STIs prevention following the ABC model ³, as well as control, and treatment activities among students and faculty at universities and teaching hospitals in the Amhara region of Northwest Ethiopia.

³ Prevention interventions directed toward behavior change should promote the ABC model. Methods and strategies should emphasize abstinence for youth and other unmarried persons, mutual faithfulness and partner reduction for sexually active adults, and correct and consistent use of condoms by populations engaged in high-risk behaviors. Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing the abstinence and faithfulness behavior-change interventions outlined above.

12. Institute comprehensive prevention, care and treatment services supported by information systems and laboratories at teaching hospitals in the Amhara region of Northwest Ethiopia.

Administration: The winning applicant must comply with all HHS management requirements for meeting participation and progress and financial reporting for this cooperative agreement (See HHS Activities and Reporting sections below for details), and comply with all policy directives established by the Office of the U.S. Global AIDS Coordinator.

In a cooperative agreement, HHS staff is substantially involved in the program activities, above and beyond routine grant monitoring.

HHS/CDC activities for this program are as follows:

1. Provide scientific and technical assistance in developing the awardee's operational plan.

2. Provide ongoing technical assistance in program implementation.

3. Assist the awardee in assessments of the program's operations to determine the overall effectiveness of the program, including developing a monitoring and evaluation tool for the activities in the program.

4. Participate in training of health staff.

5. Provide technical assistance from HHS-headquarters and the in-country HHS office in Ethiopia to assure other related U.S. Government activities are well-coordinated with the national program.

6. Organize an orientation meeting with the grantee to brief it on applicable U.S. Government, HHS, and Emergency Plan expectations, regulations and key management requirements, as well as report formats and contents. The orientation could include meetings with staff from HHS agencies and the Office of the U.S. Global AIDS Coordinator.

7. Review and approve the process used by the grantee to select key personnel and/or post-award subcontractors and/or subgrantees to be involved in the activities performed under this agreement, as part of the Emergency Plan for AIDS Relief Country Operational Plan review and approval process, managed by the Office of the U.S. Global AIDS Coordinator.

8. Review and approve grantee's annual work plan and detailed budget, as part of the Emergency Plan for AIDS Relief Country Operational Plan review and approval process, managed by the Office of the U.S. Global AIDS Coordinator.

9. Review and approve grantee's monitoring and evaluation plan, including for compliance with the strategic information guidance established by the Office of the U.S. Global AIDS Coordinator.

10. Meet on a monthly basis with grantee to assess monthly expenditures in relation to approved work plan and modify plans as necessary.

11. Meet on a quarterly basis with grantee to assess quarterly technical and financial progress reports and modify plans as necessary.

12. Meet on an annual basis with grantee to review annual progress report for each U.S. Government Fiscal Year, and to review annual work plans and budgets for subsequent year, as part of the Emergency Plan for AIDS Relief review and approval process for Country Operational Plans, managed by the Office of the U.S. Global AIDS Coordinator.

13. Provide technical assistance, as mutually agreed upon, and revise annually during validation of the first and subsequent annual work plans. This could include expert technical assistance and targeted training activities in specialized areas, such as strategic information, project management, confidential counseling and testing, palliative care, treatment literacy, and adult learning techniques.

14. Provide in-country administrative support to help grantee meet U.S. Government financial and reporting requirements.

15. Make available manuals, guidelines or other related materials already developed by HHS-Ethiopia for other similar projects.

Technical assistance and training may be provided directly by HHS/CDC staff or through organizations that have successfully competed for funding under a separate HHS/CDC contract.

II. Award Information

Type of Award: Cooperative Agreement.

HHS involvement in this program is listed in the Activities section above.

Fiscal Year Funds: 2005.

Approximate Total Funding: $500,000.

Approximate Number of Awards: One.

Approximate Average Award: $100,000. (This amount is for the first 12-month budget period, and includes direct costs.)

Floor of Award Range: None.

Ceiling of Award Range: $100,000.

Anticipated Award Date: September 23, 2005.

Budget Period Length: 12 months.

Project Period Length: Five years.

Throughout the project period, HHS' commitment to continuation of awards will be conditioned on the availability of funds, evidence of satisfactory progress by the recipient (as documented in required reports), and the determination that continued funding is in the best interest of the Federal Government, through the President's Emergency Plan for AIDS Relief review and approval process for Country Operational Plans, managed by the Office of the U.S. Global AIDS Coordinator.

III. Eligibility Information

III.1. Eligible Applicants

Assistance will be provided only to universities and teaching hospitals in Northwest Ethiopia. Applicants must demonstrate a strong commitment to community based, multi-disciplinary team training program that also integrates training, service and research.

Applicants must have a documented track record of working closely with Amhara Regional Health Bureau and the adjoining regions as well as with a number of regional and international institutions of higher education, professional associations and non-governmental organizations (NGOs) and faith based organizations (FBOs). Applicants must have demonstrated capacity to provide training for all cadres of health care professionals deployed to this region of Ethiopia.

III.2. Cost-Sharing or Matching Funds

Matching funds are not required for this program. Although matching funds are not required, preference will go to organizations that can leverage additional funds to contribute to program goals.

III.3. Other

If you request a funding amount greater than the ceiling of the award range, we will consider your application non-responsive, and it will not enter into the review process. We will notify you that your application did not meet the submission requirements.

Special Requirements: If your application is incomplete or non-responsive to the special requirements listed in this section, it will not enter into the review process. We will notify you that your application did not meet submission requirements.

• HHS/CDC will consider late applications non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

To apply for this funding opportunity use application form PHS 5161-1.

Electronic Submission: HHS strongly encourages you to submit your application electronically by using the forms and instructions posted for this announcement at www.grants.gov.

Paper Submission: Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) staff at: 770-488-2700. We can mail application forms to you.

IV.2. Content and Form of Submission

Application: You must submit a project narrative with your application forms. You must submit the narrative in the following format:

• Maximum number of pages: 20. If your narrative exceeds the page limit, we will only review the first pages within the page limit.

• Font size: 12-point unreduced

• Double spaced

• Paper size: 8.5 by 11 inches

• Page margin size: One inch

• Printed only on one side of page.

• Held together only by rubber bands or metal clips; not bound in any other way.

• All pages should be numbered.

• A complete index to the application and any appendices must be included.

• Your application MUST be submitted in English.

Your narrative should address activities to be conducted over the entire project period, and must include the following items in the order listed:

• Background—What are the underlying issues related to undertaking this project?

• Objectives—What objectives will be achieved by undertaking this project?

• Methods—What methods will be used to achieve stated objectives?

• Timeline—What is the timeframe for completing the stated objectives?

• Staff—What staff will be employed to carry out the project?

• Understanding—Demonstrate knowledge of the elements involved in implementing this project.

• Performance Measures—What measures will be used to determine if the objectives of the project are being met?

• Budget Justification—How are the costs related to implementing the project justified?

• Budget—What are the costs associated with implementing the project?

We need the budget and budget justification only for year one of the project period. The budget and budget justification will not count toward the page limit stated above.

Additional information may be included in the application appendices. The appendices will not be counted toward the narrative page limit. Additional information could include, but is not limited to:

• Resumes and/or curriculum vitae

• Letters of Support

• Job descriptions of proposed key positions to be created for the activity

• Quality-Assurance, Monitoring-and-Evaluation, and Strategic-Information Forms

• Applicant's Corporate Capability Statement

• Evidence of Legal Organizational Structure

You must have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/pubcommt.htm.

If your application form does not have a DUNS number field, please write your DUNS number at the top of the first page of your application, and/or include your DUNS number in your application cover letter.

Additional requirements that could require you to submit additional documentation with your application are listed in section “VI.2.Administrative and National Policy Requirements.”

IV.3. Submission Dates and Times

Application Deadline Date: September 19, 2005.

Explanation of Deadlines: Applications must be received in the HHS/CDC Procurement and Grants Office by 4 p.m. Eastern Time on the deadline date.

You may submit your application electronically at www.grants.gov. We consider applications completed online through Grants.gov as formally submitted when the applicant organization's Authorizing Official electronically submits the application to www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure that the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Antiretroviral Drugs—The purchase of antiretrovirals, reagents, and laboratory equipment for antiretroviral treatment projects require pre-approval from the GAP headquarters.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations, are allowable to foreign institutions and international organizations, with the following exception: With the exception of the American University, Beirut, and the World Health Organization, Indirect Costs will not be paid (either directly or through sub-award) to organizations located outside the territorial limits of the United States or to international organizations, regardless of their location.

• The applicant may contract with other organizations under this program; however, the applicant must perform a substantial portion of the activities, (including program management and operations, and delivery of prevention and care services for which funds are required).

• You must obtain an annual audit of these HHS/CDC funds (program-specific audit) by a U.S.-based audit firm with international branches and current licensure/authority in-country, and in accordance with International Accounting Standards or equivalent standard(s) approved in writing by HHS/CDC.

• A fiscal Recipient Capability Assessment may be required, prior to or post award in order to review the applicant's business management and fiscal capabilities regarding the handling of U.S. Federal funds.

Prostitution and Related Activities: The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, “Prostitution and Related Activities.' ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address: Electronic Submission: HHS/CDC strongly encourages you to submit electronically at: www.grants.gov. You will be able to download a copy of the application package from www.grants.gov, complete it offline, and then upload and submit the application via the Grants.gov site. We will not accept e-mail submissions. If you are having technical difficulties in Grants.gov, you may reach them by e-mail at support@grants.gov, or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommended that you submit your grant application by using Microsoft Office products (e.g., Microsoft Word, Microsoft Excel, etc.). If you do not have access to Microsoft Office products, you may submit a PDF file. You may find directions for creating PDF files on the Grants.gov web site. Use of file formats other than Microsoft Office or PDF could make your file unreadable for our staff.

OR

Paper Submission: Submit the original and two hard copies of your application by mail or express delivery service to: Technical Information Management Section—AA135, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the purpose section of this announcement. Measures must be objective and quantitative and must measure the intended outcome. Applicants must submit these measures of effectiveness with the application and will be an element of evaluation.

An objective review panel appointed by HHS will evaluate each application against the following criteria:

1. Plans for Administration and Management of the Project (25 Points)

Do the plan, objectives, and methods described meet the objectives of the President's Emergency Plan? Does the adequacy of described evaluation methodology meet the plans of the project? Does the application include an overall design strategy, including measurable time lines, clear monitoring and evaluation procedures, and specific activities for meeting the proposed objectives? Does the applicant describe a plan to progressively build the capacity of local organizations and of target beneficiaries and communities to respond to the epidemic?

2. Technical and Programmatic Approach (20 Points)

Does the applicant's proposal demonstrate an understanding of how to develop, promote, implement, monitor and evaluate activities listed above?

3. Ability to Carry Out the Project (20 Points)

Does the applicant provide a clear plan for the administration and management of the proposed activities, to manage the resources of the program, prepare reports, monitor and evaluate activities and audit expenditures?

4. Personnel (20 Points)

Are the professional personnel involved in this project qualified? Do they have experience working with HIV/AIDS/STI/TB? Are they able to communicate effectively in the local languages?

5. Understanding the Problem (15 Points)

Does the applicant demonstrate an understanding of the national cultural and political context and the technical and programmatic areas covered by the project? Does the applicant display knowledge of the five-year strategy and goals of the President's Emergency Plan, such that it can build on these to develop a comprehensive, collaborative project to reach underserved populations in Ethiopia and meet the goals of the Emergency Plan? Does the applicant's proposal demonstrate a clear and concise understanding of the general AIDS epidemic situation, the policy environment and current training and research needs in Ethiopia?

6. Budget (Not Scored, But Evaluated)

Is the itemized budget for conducting the project reasonable and well justified?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Ethiopian organizations. It is possible for one organization to apply as lead grantee with a plan that includes partnering with other organizations, preferably local. Although matching funds are not required, preference will be go to organizations that can leverage additional funds to contribute to program goals.

Applications will be funded in order by score and rank determined by the review panel. HHS/CDC will provide justification for any decision to fund out of rank order.

V.3. Anticipated Announcement and Award Dates

September 23, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-8 Public Health System Reporting Requirements

• AR-10 Smoke-Free Workplace Requirements

• AR-12 Lobbying Restrictions

• AR-14 Accounting System Requirements

Applicants can find additional information on these requirements on the HHS/CDC Web site at the following Internet address: http://www.cdc.gov/od/pgo/funding/ARs.htm.

You need to include an additional Certifications form from the PHS5161-1 application in the Grants.gov electronic submission only. Please refer to http://www.cdc.gov/od/pgo/funding/PHS5161-1-Certificates.pdf. Once you have filled out the form, attach it to the Grants.gov submission as Other Attachments Form.

VI.3. Reporting Requirements

You must provide HHS/CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 90 days after the end of the budget period.

3. Financial status report, no more than 90 days after the end of the budget period.

4. Final financial and performance reports, no more than 90 days after the end of the project period.

These reports must be mailed to the Grants Management Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Tadesse Wuhib, MD, MPH, Country Director, CDC-Ethiopia, PO Box 1014, Entoto Road, Addis Ababa, Telephone: (Office) 251-1-66-95-33; (Cell) 251-9-228543, E-mail address: wuhibt@etcdc.com.

For financial, grants management, or budget assistance, contact: Shirley Wynn, Grants Management Specialist, CDC Procurement and Grants Office, 2920 Brandywine Road, Atlanta, GA 30341, Telephone: 770-488-1515, E-mail: SWynn@cdc.gov.

VIII. Other Information

This and other CDC funding opportunity announcements can be found on the CDC Web site, Internet address: www.cdc.gov. Click on “Funding”, then “Grants and Cooperative Agreements.”

Dated: August 17, 2005.
William P. Nichols,
Director, Procurement and Grants Office, Centers for Disease Control and Prevention.

[FR Doc. 05-16832 Filed 8-23-05; 8:45 am]

BILLING CODE 4163-18-P